DEPARTMENT OF ENERGY

Federal Energy Regulatory Commission

[Project No. 14787-004]

Black Canyon Hydro, LLC; Notice of Application Ready for Environmental Analysis and Soliciting Comments, Recommendations, Terms and Conditions, and Prescriptions

Take notice that the following hydroelectric application has been filed with the Commission and is available for public inspection.

a. Type of Application: Original major license.

b. Project No.: 14787-004.

c. Date Filed: January 18, 2023.

d. Applicant: rPlus Hydro, LLLP, on behalf of Black Canyon Hydro, LLC (BCH).

e. Name of Project: Seminoe Pumped Storage Project (Seminoe Project or project).

f. Location: The proposed project would be located at the U.S. Bureau of Reclamation's (Reclamation) Seminoe Reservoir on the North Platte River in Carbon County, Wyoming, approximately 35 miles northeast of Rawlins, Wyoming. The project would occupy 1,025.94 acres of land managed by the Bureau of Land Management (BLM) and 77.00 acres managed by Reclamation.

g. Filed Pursuant to: Federal Power Act 16 U.S.C. 791(a)-825(r).

h. Applicant Contact: Lars Dorr, Program Manager for rPlus Hydro, LLLP. Address: Black Canyon Hydro, LLC c/o rPlus Hydro, LLLP 201 S. Main St. Suite 2100 Salt Lake City, Utah 84111. Phone: (858) 925-3743. Email: ldorr@rplusenergies.com.

i. FERC Contact: Michael Tust at (202) 502-6522; or email at michael.tust@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Seminoe Pumped Storage Project (P-14787-004).

The Commission's Rules of Practice and Procedure require all intervenors filing documents with the Commission to serve a copy of that document on each person on the official service list for the project. Further, if an intervener files comments or documents with the Commission relating to the merits of an issue that may affect the responsibilities of a particular resource agency, they must also serve a copy of the document on that resource agency.

k. This application has been accepted and is now ready for environmental analysis.

l. Project Description: The Seminoe Project would utilize Reclamation's existing 1,017,280 acre-feet Seminoe reservoir on the North Platte River as the lower reservoir and would include the following new facilities: (1) a 8,498-foot-long circumference, 20-foot wide, 65 to 185-foot-high, roller-compacted concrete (RCC) dam impounding a 10,800-acre-foot upper reservoir at a crest elevation of 7,455 feet and a maximum operating pool elevation of 7,445 feet (allowing for a 10-foot freeboard between the maximum operating level and the dam crest); (2) a 200-foot-long concrete, ungated, ogee crest emergency spillway; (3) a 75-foot-diameter, covered bell-mouth intake set near the southwestern edge of the upper reservoir at an elevation of 7,295 feet; (4) an approximately 680-foot-long, 32-foot-diameter concrete lined-headrace tunnel connecting to a 615-foot-long, 24-foot-diameter aboveground steel conduit which would extend underground for an additional 2,470 feet before discharging to a 30-foot-diameter vertical, concrete-lined shaft; (5) a 165-foot-long, 17-foot-diameter concrete, steel-lined penstock connecting from the vertical shaft to the pump-turbines; (6) three pump-turbines each rated at 324 megawatts (MW) (for a combined total generating capacity of 972 MW) located in the underground powerhouse (machine hall); (7) an approximately 4,070-foot-long, 31-foot-diameter concrete-lined tailrace tunnel discharging water to a lower intake structure within the existing Seminoe Reservoir at normal maximum water surface elevation of 6,357 feet; (8) a transformer cavern containing 18 kilovolt (kV) generator step-up transformers for each unit, and a gas-insulated switchgear switchyard; (9) a 765-foot-long horizontal tunnel transmitting power from the transformer gallery to a vertical cable shaft up to a take-off structure at the surface, and then via two separate, 500 kV, overhead primary transmission lines extending to the 500 kV interconnection at Aeolus Substation, approximately 30 miles to the southeast of the project; (10) an approximately 32-foot-diameter main access tunnel providing access to the machine hall; (11) a 15-foot-wide, 16-foot-high surge chamber access tunnel lined with shotcrete; (12) a 2.6-mile-long new access road around the upper reservoir; (13) a new 40-foot-wide road to the main access tunnel portal starting from a proposed new bridge over the tailrace of Seminoe Dam; and (14) appurtenant facilities. Additionally, portions of Western Area Power Administration's existing Miracle Mile-Snowy Range 1 115 kV and Miracle Mile-Snowy Range 2 230 kV transmission lines would be relocated around the upper reservoir. Furthermore, the existing Bennett Mountain Road (also called Dry Lake Road) would be upgraded (i.e., widened to 24 feet) to support construction and maintenance of the proposed upper reservoir and realigned in places to reduce steep grades and avoid wetlands. The powerline road from Hanna would serve as the main access route to the lower intake and gate shaft area. BCH also proposes to upgrade a small section of the existing rough, single-track road from the proposed gate shaft location to the surge chamber access tunnel exit.

BCH proposes to draw 13,400 acre-feet of water from Seminoe Reservoir to initially fill the new upper reservoir and would need 672 acre-feet of water each year to replenish water lost through evaporation. Once the upper reservoir is filled, approximately 10,800 acre-feet could be cycled between the upper reservoir and Seminoe Reservoir each day and the project would be capable of generating 2,916 gigawatt-hours per year.

m. A copy of the application can be viewed on the Commission's website at https://www.ferc.gov using the “eLibrary” link. Enter the docket number excluding the last three digits in the docket number field to access the document. For assistance, contact FERC Online Support (see item j above).

All filings must: (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

You may also register at https://ferconline.ferc.gov/FERCOnline.aspx to be notified via email of new filings and issuances related to this or other pending projects. For assistance, please contact FERC Online Support (see item j above).

n. The applicant must file no later than 60 days from the issuance date of this notice: (1) a copy of the water quality certification; (2) a copy of the request for certification, including proof of the date on which the certifying authority received the request; or (3) evidence of a waiver of water quality certification.

o. Procedural schedule: The application will be processed according to the following anticipated schedule. Revisions to the schedule will be made as appropriate. The schedule for issuing draft and final NEPA documents is consistent with the Commission's Notice of Revised Schedule for the Seminoe Pumped Storage Project issued October 18, 2024:

Milestone | Target date
Comments, Recommendations and Agency Terms and Conditions/Prescriptions Due | March 2025.
Applicant's Reply Comments Due | April 2025.
Commission Issues Draft NEPA Document | September 2025.
Commission Issues Final NEPA Document | April 2026.

p. Final amendments to the application must be filed with the Commission no later than 30 days from the issuance date of this notice.

Dated: January 13, 2025.
Debbie-Anne A. Reese,
Secretary.

[FR Doc. 2025-01859 Filed 1-28-25; 8:45 am]

BILLING CODE 6717-01-P